ENVIRONMENTAL PROTECTION AGENCY

[EPA-HQ-OW-2010-0689; FRL-9237-2]

Agency Information Collection Activities: Submission to OMB for Review and Approval; Comment Request; 2011 Drinking Water Infrastructure Needs Survey and Assessment (Reinstatement); EPA ICR No. 2234.03; OMB Control No. 2040-0274

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a reinstatement collection. The ICR, which is abstracted below, describes the nature of the information collection and its estimated burden and cost.

DATES: Additional comments may be submitted on or before January 10, 2011.

ADDRESSES: Submit your comments, referencing Docket ID No. EPA-HQ-OW-2010-0689, to: (1) EPA online using http://www.regulations.gov (our preferred method), by e-mail to OW-Docket@epa.gov or by mail to: EPA Docket Center, Environmental Protection Agency, Mailcode: 28221T, 1200 Pennsylvania Avenue, NW., Washington, DC 20460, 1200 Pennsylvania Ave., NW., Washington, DC 20460; and (2) OMB by mail to: Office of Information and Regulatory Affairs, Office of Management and Budget (OMB), Attention: Desk Officer for EPA, 725 17th Street, NW., Washington, DC 20503.

FOR FURTHER INFORMATION CONTACT: Robert Barles, Drinking Water Protection Division (Mail Code 4606M), Office of Ground Water and Drinking Water, U.S. EPA, 1200 Pennsylvania Avenue, NW., Washington, DC 20460; telephone number: 202-564-3814; fax number: 202-564-3757; e-mail address: barles.robert@epa.gov.

SUPPLEMENTARY INFORMATION: EPA has submitted the following ICR to OMB for review and approval according to the procedures prescribed in 5 CFR 1320.12. On September 10, 2010 (75 FR 55325), EPA sought comments on this ICR pursuant to 5 CFR 1320.8(d). EPA received no comments during the comment period. Any additional comments on this ICR should be submitted to EPA and OMB within 30 days of this notice.

EPA has established a public docket for this ICR under Docket ID No. EPA-HQ-OW-2010-0689, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744 and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: 2011 Drinking Water Infrastructure Needs Survey and Assessment (Reinstatement).

ICR Numbers: EPA ICR No. 2234.03, OMB Control No. 2040-0274.

ICR Status: This ICR seeks reinstatement of a previously approved information collection activity that was discontinued on December 31, 2009. An agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The purpose of this information collection is to identify the infrastructure needs of public water systems for the 20-year period from January 2011 through December 2031. EPA's Office of Ground Water and Drinking Water (OGWDW) will collect these data to comply with Sections 1452(h) and 1452(i)(4) of the Safe Drinking Water Act (42 U.S.C. 300j-12).

EPA will use a questionnaire to collect capital investment need information from community water systems serving more than 3,300 persons and from American Indian and Alaskan Native Village community water systems and not-for-profit non-community water systems serving more than 25 persons. Participation in the survey is voluntary. The data from the questionnaires will provide EPA with a basis for estimating the nationwide infrastructure needs of public water systems. Also, as mandated by section 1452(a)(1)(D)(ii) of the Safe Drinking Water Act, EPA uses the results of the latest survey to allocate Drinking Water State Revolving Fund (DWSRF) monies to the states. Under the allotment formula, each state receives a grant of the annual DWSRF appropriation in proportion to its share of the total national need—with the proviso that each state receives at least one percent of the total funds available.

Burden Statement: Over the entire survey effort, the annual public reporting and recordkeeping burden for this collection of information is estimated to average 7.55 hours per response for states and water system respondents combined. However, nearly all of the responses from water systems will occur in the single year of 2011. Burden means the total time, effort, or financial resources expended by persons to generate, maintain, retain, or disclose or provide information to or for a Federal agency. This includes the time needed to review instructions; develop, acquire, install and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information. The ICR provides a detailed explanation of the Agency's estimate, which is only briefly summarized here:

Respondents/Affected Entities: Private and Public Water Systems, States, Tribes.

Estimated Number of Respondents: 3,176.

Frequency of Response: Once.

Estimated Total Annual Hour Burden: 16,332 hours.

Estimated Total Annual Cost: $615,842. This cost is exclusively for labor as there are no capital investment or operations and maintenance costs.

Changes in the Estimates: There is no currently approved burden as this ICR was previously discontinued during the gap between the three-year ICR cycle and the four-year Needs Survey cycle. The 2011 survey requests 988 more hours of burden annually than the 2007 survey due to higher observed response rates, survey modifications and an increased number of tribes participating in the survey.

Dated: December 3, 2010.
John Moses,
Director, Collection Strategies Division.

[FR Doc. 2010-31077 Filed 12-9-10; 8:45 am]

BILLING CODE 6560-50-P